DEPARTMENT OF ENERGY

Federal Energy Regulatory Commission

[Docket No. RP02-357-000]

Questar Pipeline Company; Notice of Tariff Filing

June 12, 2002.

Take notice that on June 7, 2002, Questar Pipeline Company (Questar) tendered for filing as part of its FERC Gas Tariff, First Revised Volume No. 1, the following tariff sheets, to be effective July 7, 2002:

Third Revised Sheet No. 1B

Original Sheet No. 1C

Thirteenth Revised Sheet No. 6

Sixth Revised Sheet No. 96

Fourth Revised Sheet No. 112

Fifth Revised Sheet No. 165

Sixth Revised Sheet No. 167

First Revised Sheet No. 167A

Fourth Revised Sheet No. 171

Seventh Revised Sheet No. 172

Second Revised Sheet No. 175

Original Sheet No. 176

Original Sheet No. 177

Original Sheet No. 178

Original Sheet No. 179

Original Sheet No. 179A

Original Sheet No. 179B

Original Sheet No. 179C

Original Sheet No. 179D

Original Sheet No. 179E

Original Sheet No. 179F

Original Sheet No. 179G

Original Sheet No. 179H

Original Sheet No. 179I

Original Sheet No. 185C

Questar states that it is proposing to initiate a new, priority open-access park and loan service when Questar determines that it can reliably provide the service without detriment to the rights of existing firm storage shippers under Rate Schedule FSS.

Questar states that a copy of this filing has been served upon its customers, the Public Service Commission of Utah, and the Public Service Commission of Wyoming.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15413 Filed 6-18-02; 8:45 am]

BILLING CODE 6717-01-P